DEPARTMENT OF ENERGY

Federal Energy Regulatory Commission

[Docket No. RP01-507-000]

Transwestern Pipeline Company; Notice of Tariff Filing

August 15, 2001.

Take notice that on August 10, 2001, Transwestern Pipeline Company (Transwestern) tendered for filing in its FERC Gas Tariff, Second Revised Volume No. 1, the following tariff sheets proposed to be effective August 10, 2001:

Seventh Revised Sheet No. 72

Second Revised Sheet No. 72A

Third Revised Sheet No. 72B

Transwestern states that the reason for this filing is to comply with the Commission's Order dated July 26, 2001 in Docket Nos. RP97-288-009 et al. Pursuant to the July 26 order, Transwestern has amended both its Tariff and web site postings to provide for specific identification of capacity that may be available only for periods of less than one month in length.

Transwestern further states that copies of the filing have been mailed to each of its customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20950 Filed 8-20-01; 8:45 am]

BILLING CODE 6717-01-P